SUSQUEHANNA RIVER BASIN COMMISSION

Public Hearing

AGENCY: Susquehanna River Basin Commission.

ACTION: Notice.

SUMMARY: The Susquehanna River Basin Commission will hold a public hearing on October 30, 2024. The Commission will hold this hearing in person and telephonically. At this public hearing, the Commission will hear testimony on the projects listed in the Supplementary Information section of this notice. The Commission will also hear any testimony on the proposed 2025 fee schedule. Such projects and actions are intended to be scheduled for Commission action at its next business meeting, tentatively scheduled for December 12, 2024, which will be noticed separately. The public should note that this public hearing will be the only opportunity to offer oral comments to the Commission for the listed projects and actions. The deadline for the submission of written comments is November 11, 2024.

DATES: The public hearing will convene on October 30, 2024, at 6:30 p.m. The public hearing will end at 9:00 p.m. or at the conclusion of public testimony, whichever is earlier. The deadline for submitting written comments is Tuesday, November 12, 2024.

ADDRESSES: This public hearing will be conducted in person and telephonically. You may attend in person at Susquehanna River Basin Commission, 4423 N. Front St., Harrisburg, Pennsylvania, or join by telephone at Toll-Free Number 1-877-304-9269 and then enter the guest passcode 2619070 followed by #.

FOR FURTHER INFORMATION CONTACT: Jason Oyler, General Counsel and Secretary to the Commission, telephone: (717) 238-0423 or joyler@srbc.gov.

The proposed 2025 Fee Schedule can be viewed on the Commissions website, under public participation: https://www.srbc.gov/regulatory/public-participation/.

Information concerning the project applications is available at the Commission's Water Application and Approval Viewer at https://www.srbc.gov/waav. Additional supporting documents are available to inspect and copy in accordance with the Commission's Access to Records Policy at www.srbc.gov/regulatory/policies-guidance/docs/access-to-records-policy-2009-02.pdf.

SUPPLEMENTARY INFORMATION: In addition to hearing any testimony on the proposed 2025 Fee Schedule, the public hearing will cover the following projects:

Projects Scheduled for Action

1. Project Sponsor and Facility: Chesapeake Appalachia, L.L.C. (Susquehanna River), Sheshequin Township, Bradford County, Pa. Application for surface water withdrawal of up to 4.000 mgd (peak day).

2. Project Sponsor and Facility: Coterra Energy Inc. (Tunkhannock Creek), Lenox Township, Susquehanna County, Pa. Application for renewal and modification of surface water withdrawal of up to 2.880 mgd (peak day) (Docket No. 20191201).

3. Project Sponsor and Facility: Coterra Energy Inc. (Tunkhannock Creek), Nicholson Township, Wyoming County, Pa. Application for renewal and modification of surface water withdrawal of up to 2.880 mgd (peak day) (Docket No. 20230903).

4. Project Sponsor and Facility: Dover Township, York County, Pa. Application for groundwater withdrawal of up to 0.144 mgd (30-day average) from Well 11.

5. Project Sponsor and Facility: East Cocalico Township Authority, East Cocalico Township, Lancaster County, Pa. Application for renewal of groundwater withdrawal of up to 0.115 mgd (30-day average) from Well 2A (Docket No. 19990901). Source and service area are located in an Environmental Justice area.

6. Project Sponsor and Facility: Edgewood by Sand Springs, LLC (Nescopeck Creek), Butler Township, Luzerne County, Pa. Applications for renewal of surface water withdrawal of up to 0.317 mgd (peak day) and consumptive use of up to 0.249 mgd (30-day average) (Docket No. 19980102).

7. Project Sponsor: The H&K Group. Project Facility: Penn/MD Materials, Fulton Township, Lancaster County, Pa. Applications for consumptive use of up to 0.024 mgd (peak day) and groundwater withdrawals (30-day averages) of up to 1.980 mgd from the Pit Sump, 0.004 mgd from the Primary and Secondary Well, and 0.011 mgd from the Tertiary Well.

8. Project Sponsor: New Enterprise Stone & Lime Co., Inc. Project Facility: Roaring Spring Quarry (Halter Creek 2), Taylor Township, Blair County, Pa. Applications for renewal and modification of consumptive use of up to 0.380 mgd (peak day) and surface water withdrawal of up to 0.288 mgd (peak day) (Docket No. 19940705 and Certificate of Registration No. GF-202204215).

9. Project Sponsor: New Enterprise Stone & Lime Co., Inc. Project Facility: Shippensburg Quarry, Southampton Township, Cumberland County, Pa. Applications for groundwater withdrawals (30-day averages) of up to 0.065 mgd from the Transit Well and 0.020 mgd from the Quarry Well, and consumptive use of up to 0.150 mgd (peak day).

10. Project Sponsor and Facility: Newport Borough Water Authority, Oliver Township, Perry County, Pa. Application for renewal and modification of groundwater withdrawal of up to 0.096 mgd (30-day average) from Well 1 (Docket No. 20140908).

11. Project Sponsor: Pennsylvania Fish & Boat Commission. Project Facility: Benner Spring State Fish Hatchery, Benner Township, Centre County, Pa. Applications for groundwater withdrawals (30-day averages) of up to 0.720 mgd from Well 1 (renewal of Docket No. 19940701) and up to 0.311 mgd from Well 3.

12. Project Sponsor and Facility: Schuylkill County Municipal Authority, Butler Township, Schuylkill County, Pa. Application for renewal of groundwater withdrawal of up to 0.362 mgd (30-day average) from the Gordon Well (Docket No. 20090624). Service area is located in an Environmental Justice area.

13. Project Sponsor and Facility: Strasburg Lancaster County Borough Authority, Strasburg Township, Lancaster County, Pa. Application for renewal of groundwater withdrawal of up to 0.275 mgd (30-day average) from the Fisher Well (Docket No. 19890107). Service area is located in an Environmental Justice area.

14. Project Sponsor and Facility: SWN Production Company, LLC (Susquehanna River), Great Bend Township, Susquehanna County, Pa. Application for renewal of surface water withdrawal of up to 2.000 mgd (peak day) (Docket No. 20191209).

15. Project Sponsor and Facility: Tallman Family Farms, L.L.C. (Wiconisco Creek), Washington Township, Dauphin County, Pa. Application for surface water withdrawal of up to 0.720 mgd (peak day).

16. Project Sponsor: Valley CC LLC. Project Facility: Valley Country Club, Sugarloaf Township, Luzerne County, Pa. Applications for renewal of groundwater withdrawals (30-day averages) of up to 0.090 mgd from the Shop Well and up to 0.090 mgd from the Pumphouse Well (Docket No. 20090632).

Opportunity To Appear and Comment

Interested parties may appear or call into the hearing to offer comments to the Commission on any business listed above required to be the subject of a public hearing. Given the nature of the meeting, the Commission strongly encourages those members of the public wishing to provide oral comments to pre-register with the Commission by emailing Jason Oyler at joyler@srbc.gov before the hearing date. The presiding officer reserves the right to limit oral statements in the interest of time and to control the course of the hearing otherwise. Access to the hearing via telephone will begin at 6:15 p.m. Guidelines for the public hearing are posted on the Commission's website, www.srbc.gov, before the hearing for review. The presiding officer reserves the right to modify or supplement such guidelines at the hearing. Written comments on any business listed above required to be the subject of a public hearing may also be mailed to Mr. Jason Oyler, Secretary to the Commission, Susquehanna River Basin Commission, 4423 North Front Street, Harrisburg, Pa. 17110-1788, or submitted electronically through https://www.srbc.gov/meeting-comment/default.aspx?type=2&cat=7. Comments mailed or electronically submitted must be received by the Commission on or before Tuesday, November 12, 2024, to be considered.

Authority: Public Law 91-575, 84 Stat. 1509 et seq., 18 CFR parts 806, 807, and 808.

Dated: September 25, 2024.
Jason E. Oyler,
General Counsel and Secretary to the Commission.

[FR Doc. 2024-22344 Filed 9-27-24; 8:45 am]

BILLING CODE 7040-01-P